DEPARTMENT OF VETERANS AFFAIRS

[OMB Control No. 2900-0786]

Agency Information Collection Activity Under OMB Review: VR&E Longitudinal Study Survey

AGENCY: Veterans Benefits Administration, Department of Veterans Affairs.

ACTION: Notice.

SUMMARY: In compliance with the Paperwork Reduction Act (PRA) of 1995, this notice announces that the Veteran's Benefits Information, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0786.

FOR FURTHER INFORMATION CONTACT: Danny S. Green, (202) 421-1354 or email Danny.Green2@va.gov. Please refer to “OMB Control No. 2900-0786” in any correspondence.

SUPPLEMENTARY INFORMATION:

Authority: Public Law 112-56, Section 221-225.

Title: Department of Veterans Affairs (VA) VR&E Longitudinal Study Survey.

OMB Control Number: 2900-0786.

Type of Review: Extension of a currently approved collection.

Abstract: As required by Public Law 110-389 Section 334, VBA will continue to collect survey data on individuals who began participating in the VR&E program during fiscal years 2010, 2012, and 2014. VA will conduct a study of this data to determine the long-term positive outcomes of individuals participating in VBA's VR&E program. The purpose of this study is to monitor the effectiveness of VR&E program, so that we can find ways to improve the program and increase the support VA provide to Veterans daily. The data collected in this study is integral to VA submitting a congressionally-mandated annual report on the long-term outcomes of Veterans who participate in the VR&E program.

An agency may not conduct or sponsor, and a person is not required to respond to a collection of information unless it displays a currently valid OMB control number. The Federal Register Notice with a 60-day comment period soliciting comments on this collection of information was published at 85 FR 143, on July 24, 2020, page 44957.

Affected Public: Individuals.

Estimated Annual Burden: 2,695 hours.

Estimated Average Burden per Respondent: 20 minutes.

Frequency of Response: Annual.

Estimated Number of Respondents: 8,084.

By direction of the Secretary.
Danny S. Green,
VA Clearance Officer, Office of Quality, Performance and Risk, Department of Veterans Affairs.

[FR Doc. 2020-21218 Filed 9-24-20; 8:45 am]

BILLING CODE 8320-01-P